DEPARTMENT OF HOMELAND SECURITY

Transportation Security Administration

Intent To Request Reinstatement From OMB of One Current Public Collection of Information: Information Regarding Security Programs for Foreign Air Carriers

AGENCY: Transportation Security Administration, DHS.

ACTION: 30-Day Reinstatement Notice.

SUMMARY: This notice announces that the Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on March 26, 2009 at 74 FR 13320. The collection involves the submission of information collected to determine compliance with 49 CFR part 1546 and to ensure passenger safety by monitoring foreign air carrier security procedures.

DATES: Send your comments by August 5, 2009. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Ginger LeMay, Office of Information Technology, TSA-11, Transportation Security Administration, 601 South 12th Street, Arlington, VA 20598-6011; telephone (571) 227-3616; e-mail ginger.lemay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Public Collection of Information Regarding Security Programs for Foreign Air Carriers.

Type of Request: Reinstatement.

OMB Control Number: 1652-0005.

Form(s): Supplemental Information Form.

Affected Public: Foreign Air Carriers.

Abstract: Based on 49 CFR part 1546, Security Programs for Foreign Air Carriers, TSA requires foreign air carriers to submit the following information: (1) A master crew list of all flight deck and cabin crew members flying to and from the United States; (2) the flight crew list on a flight-by-flight basis; (3) passenger information on a flight-by-flight basis; and (4) total amount of cargo screened onboard flights departing airports within the United States, consisting of cargo screened at 100 percent and cargo screened at 50 percent. Foreign air carriers are required to provide this information via electronic means. Foreign air carriers with limited electronic systems may need to modify their current systems or generate a new computer system in order to submit the requested information. This information collection is mandatory for foreign air carriers and must be submitted in order to comply with their TSA-accepted security programs. Additionally, foreign air carriers must maintain these records as well as training records for crew members and individuals performing security-related functions, and make them available to TSA for inspection upon request.

Foreign air carriers must conduct a comparison of their passenger names and flight deck and cabin crewmember names against the TSA-issued watch lists and report passengers who have been confirmed as a match. TSA will continue to collect information to determine foreign air carrier compliance with the requirements of 49 CFR part 1546.

TSA estimates that there will be approximately 162 respondents to the information collection, with an annual burden estimate of 747,387 hours.

Issued in Arlington, Virginia, on June 30, 2009.
Ginger LeMay,
Paperwork Reduction Act Officer, Business Improvements and Communications, Office of Information Technology.

[FR Doc. E9-15920 Filed 7-2-09; 8:45 am]

BILLING CODE 9110-05-P